DEPARTMENT OF THE INTERIOR

National Park Service

Notice of Intent To Prepare an Environmental Impact Statement (EIS) for the General Management Plan (GMP), Everglades National Park, FL

SUMMARY: Under the provisions of the National Environmental Policy Act of 1969, the National Park Service is preparing a General Management Plan and Environmental Impact Statement (GMP/EIS) for Everglades National Park, Florida.

The park's current Master Plan, approved in 1979, is no longer adequate to address the policy and operational issues now facing Everglades National Park. Conditions have changed over the last 23 years, and that plan does not provide sufficient direction for protecting natural and cultural resources and offering high quality visitor opportunities. The Master Plan predates the Everglades National Park Protection and Expansion Act of 1989, which increased the park by 109,000 acres and directed further protection of valuable ecological resources. The GMP/EIS will identify an overall direction for park management for the next 20 years by clearly prescribing desired types and levels of resource conditions and visitor experiences to be achieved throughout the park.

Determination of what should be achieved will be based on review of park legislation, purpose, significance and special mandates, and the body of laws and policies directing park management.

The National Park Service is initiating the scoping process for the GMP/EIS. In cooperation with Indian tribes, local, state, and other federal agencies, and the public, the plan will correct existing management deficiencies by determining: desired natural and cultural resource conditions, management prescriptions for all areas of the park, carrying capacities for resources and visitor use, appropriate types and levels of development and recreational use, and new opportunities for working cooperatively with neighboring communities.

Specific issues that will be addressed in the GMP/EIS will be determined by analyzing input from the Indian tribes; public; local, state and other federal agencies; public and private organizations with an interest in Everglades National Park; and park staff. The issues determined to be significant will guide development of alternatives for future management of Everglades National Park and will provide the framework for analyzing the impacts of the proposed alternatives.

DATES: To determine the scope of issues to be addressed in the GMP/EIS and identify pertinent issues related to the project, an introductory GMP newsletter that includes a public response form will be distributed to the public in September 2002. In addition, public scoping meetings will be held in the Fall of 2002. Public notice of the specific dates, times, and locations of the meetings will be provided in the newsletter, announced in local media, and posted on the Internet at http://www.nps.gov/ever/planning/index.htm. At each public scoping meeting representatives of the National Park Service will be available to discuss issues, concerns, and other matters related to the GMP project.

ADDRESSES: Additional comments or requests to be placed on the mailing list should be addressed to Superintendent, Everglades National Park, Attention: Fred Herling, 40001 State Rd. 9336, Homestead, Florida 33034.

FOR FURTHER INFORMATION CONTACT: Fred Herling, Supervisory Park Planner, Everglades National Park, 40001 State Road 9336, Homestead, FL, 33034, telephone 305-242-7704. Email: Fred_Herling@nps.gov.

SUPPLEMENTARY INFORMATION: The draft and final GMP/EIS documents will be distributed to all known interested parties and appropriate agencies. Full participation by Indian tribes, federal, state, and local agencies as well as other concerned organizations and private citizens is invited throughout the preparation of this document. At least six public meetings will be held to initiate the gathering of input for the GMP/EIS. The anticipated meeting locations are: Miami, Florida Keys, Florida City/Homestead, Everglades City, Naples, and Washington DC. Dates, times, and locations of the meetings will be provided in the newsletter, announced in local media, and posted on the Internet at http://www.nps.gov/ever/planning/index.htm.

Everglades National Park is the largest national park east of the Rocky Mountains, encompassing 1,509,000 acres of land and water in Dade, Monroe, and Collier counties, Florida. The park includes the largest designated wilderness area in the Eastern United States, totaling 1,296,500 acres. Congress called for the park to be “permanently reserved as a wilderness,” preserving essential primitive conditions, including the natural abundance, diversity, behavior, and ecological integrity of unique flora and fauna. Located at the interface of temperate and subtropical environments, the park has a great diversity of resources including our nation's largest sawgrass prairie and mangrove ecosystem, the most significant breeding ground for tropical birds in North America, and 21 federally-listed threatened and endangered species. The park has over one million visitors each year.

The GMP/EIS will identify alternative management approaches based on the issues identified during the scoping phase of the project. The GMP/EIS will disclose to the public and decision makers the environmental consequences of implementing each alternative management approach. After reviewing the consequences and listening to public concerns, the decision-makers will select a preferred alternative that will guide management of Everglades National Park for the next 20 years. The responsible official for the Environmental Impact Statement is the Regional Director, National Park Service, Southeast Region, 100 Alabama Street SW., 1924 Building, Atlanta, Georgia 30303.

Our practice is to make comments, including names and home addresses of respondents, available for public review during regular business hours. If you wish for us to withhold your name and/or address, you must state this prominently at the beginning of your comment. However, we will not consider anonymous comments. We will make all submissions from organizations or businesses, and from individuals identifying themselves as representatives or officials of organizations or businesses, available for public inspection in their entirety.

Dated: August 1, 2002.
Patricia A. Hooks,
Acting Regional Director, Southeast Region.

[FR Doc. 02-27250 Filed 10-24-02; 8:45 am]

BILLING CODE 4310-70-P